DEPARTMENT OF JUSTICE

Antitrust Division

Notice Pursuant to the National Cooperative Research and Production Act of 1993—IMS Global Learning Consortium, Inc.

Notice is hereby given that, on November 5, 2019, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Cambridge Assessment, Cambridge, UNITED KINGDOM; Strategic Education, Minneapolis, MN; Hudson School District, Hudson, WI; RANDA Solutions, Franklin, TN; Unox Portal (Pragnya Technologies Pty Ltd), Sydney, AUSTRALIA; U.S. Chamber of Commerce Foundation, Washington, DC; VidGrid, St. Paul, MN; and Wharton School, University of Pennsylvania, Philadelphia, PA, have been added as parties to this venture.

Also, Capella University, Minneapolis, MN; Nelson Education, Toronto, CANADA; and Zia Learning, Willowbrook, IL, have withdrawn as parties to this venture.

In addition, eSyncTraining has changed its name to CoSo Cloud, Irvine, CA.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on August 22, 2019. A notice was published in the Federal Register pursuant to Section 6(b) of the Act on September 13, 2019 (84 FR 48379).

Suzanne Morris,
Chief, Premerger and Division Statistics Unit, Antitrust Division.

[FR Doc. 2019-24895 Filed 11-15-19; 8:45 am]

BILLING CODE 4410-11-P